DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency (FEMA) has submitted the following information collection to the Office of Management and Budget (OMB) for review and clearance in accordance with the requirements of the Paperwork Reduction Act of 1995 (44 U.S.C. Chapter 35). The submission describes the nature of the information collection, the categories of respondents, the estimated burden (i.e., the time, effort and resources used by respondents to respond) and cost, and includes the actual data collection instruments FEMA will use.

Title: Approval and Coordination of Requirements to Use the National Emergency Training Center (NETC) for Extracurricular Training Activities.

OMB Number: 1660-0029.

Abstract: FEMA Form 75-10, Request for Housing Accommodations, will be used by respondents to request housing accommodations at the NETC campus. FEMA Form 75-11, Request for Use of NETC Facilities, is used by respondents to request to use NETC facilities for extracurricular training activities. Extracurricular training is training over and above regularly scheduled training sessions of the National Fire Academy and Emergency Management Institute. The policy of the NETC is to accommodate other training activities on a space-available basis at the Emmitsburg campus. In order for NETC to approve and schedule the use of its facilities, information must be provided by special group organizations. A written, e-mail or telephone request for use of NETC facilities is initially made to determine availability of the facilities. If space is available, the contact person for the special group must follow up by completing FEMA Form 75-11 to provide information on the number of participants, meals, and special requirements. The information is used to assign classrooms, schedule equipment, and arrange for food service.

Affected Public: Not-for-profit institutions; Federal Government; State, Local or Tribal Government; Individuals or households; and Business or other for-profit.

Number of Respondents: 1,600.

Estimated Time per Respondent: FEMA Form 75-10—5 minutes; FEMA Form 75-11—10 minutes.

Estimated Total Annual Burden Hours: 142 hours.

Frequency of Response: On occasion.

Comments: Interested persons are invited to submit written comments on the proposed information collection to the Office of Information and Regulatory Affairs at OMB, Attention: Desk Officer for the Department of Homeland Security/FEMA at email address kflee@omb.eop.gov or facsimile number (202) 395-7285. Comments must be submitted on or before April 26, 2004. In addition, interested persons may also send comments to FEMA (see contact information below).

FOR FURTHER INFORMATION CONTACT: Requests for additional information or copies of the information collection should be made to Muriel B. Anderson, Chief, Records Management Branch, FEMA at 500 C Street, SW., Room 316, Washington, DC 20472, facsimile number (202) 646-3347, or e-mail address: InformationCollections@dhs.gov.

Dated: March 1, 2004.
Edward W. Kernan,
Division Director, Information Resources Management Division, Information Technology Services Directorate.

[FR Doc. 04-6780 Filed 3-25-04; 8:45 am]

BILLING CODE 9110-17-P